DEPARTMENT OF HOUSING AND URBAN DEVELOPMENT

[Docket No. FR-5558-D-01]

Delegation of Authority for the Office of Departmental Operations and Coordination

AGENCY: Office of the Secretary, HUD.

ACTION: Notice of delegation of authority.

SUMMARY: Through this notice, the Secretary delegates to the Director of Departmental Operations and Coordination authority and responsibility for departmental operations and coordination, specifically relating to quality management reviews, labor relations, and the Southwest Borders Initiative. This delegation supersedes all previous delegations of authority to the Office of Departmental Operations and Coordination (ODOC).

DATES: Effective Date: October 4, 2011.

FOR FURTHER INFORMATION CONTACT: Edwardo S. Bowen, Departmental Operations Officer, Office of Departmental Operations and Coordination, Department of Housing and Urban Development, 451 7th Street SW., Room 2124, Washington, DC 20410, telephone number 202-708-2806, extension 2143. (This is not a toll-free number.) Individuals with speech or hearing impairments may access this number through TTY by calling the toll-free Federal Relay Service at telephone number 1-800-877-8339.

SUPPLEMENTARY INFORMATION:

Section A. Authority Delegated

The Secretary hereby delegates to the Director of Departmental Operation and Coordination the authority and responsibility for departmental operations and coordination, specifically relating to quality management reviews, labor relations, and the Southwest Borders Initiative.

Section B. Authority Excepted

The authority delegated in this document does not include the authority to sue or be sued or to issue or waive regulations.

Section C. Authority To Redelegate

The Secretary authorizes that the Director of ODOC may redelegate the authority described in Section A.

Section D. Authority Superseded

This delegation supersedes all previous delegations of authority to the Office of Departmental Operations and Coordination. The Secretary may revoke the authority authorized herein, in whole or part, at any time.

Authority: Section 7(d) of the Department of Housing and Urban Development Act (42 U.S.C. 3535(d)).

Dated: October 4, 2011.
Shaun Donovan,
Secretary.

[FR Doc. 2011-26709 Filed 10-14-11; 8:45 am]

BILLING CODE 4210-67-P